DEPARTMENT OF JUSTICE

Antitrust Division

Notice Pursuant to the National Cooperative Research and Production Act of 1993—Steering Committee for Certain University of Houston Sewer-Main Collection System Research Projects

Notice is hereby given that, on June 13, 2001, pursuant to Section 6(a) of the National Cooperative Research and Production Act of 1993, 15 U.S.C. 4301 et seq. (“the Act”), the Steering Committee for Certain University of Houston Sewer-Main Collection System Research Projects (“Steering Committee”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are American Concrete Pipe Association, Irving, TX; Fiberglass Tank & Pipe Institute, Houston, TX; National Clay Pipe Institute, Lake Geneva, WI; Uni-Bell PVC Pipe Association, Dallas, TX; Pate Engineers, Inc., Houston, TX; Black & Veatch, Kansas City, MO; Parsons Brinckerhoff, New York, NY; BRH-Garver, Inc., Houston, Tx; City of Montgomery, AL; City of Conroe, TX; City of Victoria, TX, City of Houston, TX; the University of Houston, Houston, TX; and the U.S. Environmental Protection Agency Office of Waste Water Management, Washington, DC. The nature and objectives of the venture are to provide input and oversight with respect to certain sewer-main collection system research projects to be conducted by the University of Houston under grants from the United States Environmental Protection Agency (“EPA”). These projects include: (1) The determination, through controlled laboratory testing, of infiltration leak-rates for large diameter (i.e., 30-inch and greater) sewer-main joints, manhole-to-pipe joints, and manhole joint construction areas; (2) the identification and collection of relevant cost data for typical infiltration-leak prone areas; and (3) the development of a family of life cycle cost models for different infiltration rates of large diameter sewer-main collection system joints (i.e., piping and manholes) and costs incurred as a result of infiltration over the life of the system. The activities of the Steering Committee will include: (1) Providing overall research project guidance and recommendations to help achieve product goals; (2) reviewing and developing Steering Committee consensus approval of the infiltration test protocols developed by the Civil & Environmental Department of the University of Houston for pipe joints, manhole-to-pipe joints, and manhole joint testing; (3) reviewing draft project task reports, offering comments and developing a Steering Committee consensus approval of final reports released to the EPA and other interested parties; and (4) meeting three to four times per year at the University of Houston testing facility for on-site updates on research project status.

Constance K. Robinson,
Director of Operations, Antitrust Division.

[FR Doc. 01-20092 Filed 8-9-01; 8:45 am]

BILLING CODE 4410-11-M